DEPARTMENT OF TRANSPORTATION

Federal Aviation Administration

First Joint Meeting: RTCA Special Committee 205/Software Considerations

AGENCY: Federal Aviation Administration (FAA), DOT.

ACTION: Notice of RTCA Special Committee 205, Software Considerations.

SUMMARY: The FAA is issuing this notice to advise the public of a meeting of RTCA Special Committee 205, Software Considerations.

DATES: The meeting will be held March 30-April 1, 2005 starting at 9 a.m.

ADDRESSES: The meeting will be held at The MITRE Corporation, 7525 Colshire Dr., Building 1, South Lobby Entrance, McLean, Virginia 22102-7508.

FOR FURTHER INFORMATION CONTACT: (1) RTCA Secretariat, 1828 L Street, NW., Suite 805, Washington, DC 20036; telephone (202) 833-9339; fax (202) 833-9434; Web site http://www.rtca.org; MITRE Contact: Ms. Carol Klebe; telephone (703) 883-5356; e-mail cklebe@mitre.org.

Note: MITRE's security obligations require pre-registration information. If you plan to attend this meeting please provide the following to both of the Joint Secretaries prior to March 25, 2005; Mr. Michael DeWalt, mike.dewalt@certification.com; Mr. Ross Hannan, ross_hannon@btinternet.com. The information needed for pre-registration must include your name, nationality, passport number (provided for security purposes, will not be made available or distributed), organization name and nation of origin (identify the national origins of your organization, regardless of where you are located), address, telephone, and e-mail address. On arrival at MITRE please have photo identification available to assist in your badge being issued.

SUPPLEMENTARY INFORMATION: Pursuant to section 10(a)(2) of the Federal Advisory Committee Act (Pub. L. 92-463, 5 U.S.C., Appendix 2), notice is hereby given for a Special Committee 135 meeting. The agenda will include:

March 30

• Opening Plenary Session (Welcome and Introductory Remarks)

• Federal Advisory Committee Act (FACA)/RTCA Procedures

• Recognize FAA Designated Federal Official

• Review of Meeting Agenda

• Facility Host Presentation

• Committee Background

• Review of joint SC-205/WG-71 (SCWG) Terms of Reference

• Review of Special Committee Working Group Operations Plan

• Call for Other Committee/Other Related Documents Interface Volunteers

• Development of Sub-groups (Goal, Overview, Chairs, Membership)

• SG-1—SCWG Document Integration Sub-group

• SG-2—Issue & Rationale Sub-group

• SG-3—Tool Qualifications Sub-group

• SG-4—Model Based Design & Verification Sub-group

• SG-5—Object Oriented Technology Sub-group

• SG-6—Formal Methods Sub-group

• SG-7—Safety Related Considerations Sub-group

• Membership Data To Be Held on File

• Breakout Rooms and Security Escorts

• Sub-group Breakout Sessions

March 31

• Sub-groups To Evaluate Issues To Determine

• Issue Is Significant Enough To Warrant a Supplement

• Allocation of Tasks/issue Papers To Be Developed To Work the Issue

• Schedule of Completion for Submittal of Supplement or Other Deliverables to Plenary

• Web site Discussion/Review in Auditorium

• Exeucutive Committee/Sub-group Chairs Meeting

• Social Event at MITRE

• Certification Authorities Software Team (Private Session)

April 1

• Reports From Sub-groups 1-7

• Identification of Other Committee Interface Personnel

• Identification of Documents Interface Personnel

• Closing Plenary Session (Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 23, 2005.
Natalie Ogletree,
FAA General Engineer, RTCA Advisory Committee.

[FR Doc. 05-5093 Filed 3-14-05; 8:45 am]

BILLING CODE 4910-13-M